DEPARTMENT OF AGRICULTURE

Forest Service

North Central Idaho Resource Advisory Committee

AGENCY: Forest Service, USDA.

ACTION: Notice of meeting.

SUMMARY: The North Central Idaho Resource Advisorsy Committee (RAC) will be meet in Grangeville, Idaho. The RAC is authorized under the Secure Rural Schools and Community Self-Determination Act (the Act) (Pub. L. 112-141) and operates in compliance with the Federal Advisory Committee Act (FACA) (Pub. L. 92-463). The purpose of the RAC is to improve collaborative relationships and to provide advice and recommendations to the Forest Service concerning projects and funding consistent with Title II of the Act. The meeting is open to the public. The purpose of the meeting is review Title II projects that were previously recommended for funding in August, 2012.

DATES: The meeting will be held Tuesday, May 7, 2013 at 9:30 a.m. (PST).

ADDRESSES: The meeting will be held at the Nez Perce-Clearwater National Forests Headquarters Office, 104 Airport Road, Grangeville, Idaho 83530, in the Pilot Knob Room. Written comments may be submitted as described under Supplementary Information. All comments, including names and addresses when provided are placed in the record and are available for public inspection and copying. The public may inspect comments received at the Nez Perce-Clearwater National Forests Headquarters Office, 104 Airport Road, Grangeville, Idaho 83530. Please call ahead to Laura Smith, Designated Forest Official by phone at (208) 983-5143 to facilitate entry into the building to view comments.

FOR FURTHER INFORMATION CONTACT: Laura Smith, Designated Forest Official, Nez Perce-Clearwater National Forests Headquarters at (208) 983-5143, or by email lasmith@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: Review the Title II Projects that were previously recommended for funding in August, 2012. Anyone who would like to bring related matters to the attention of the RAC may file written statements with the RAC staff before the meeting. Written comments and requests for time for oral comments must be sent to Laura Smith, Designated Forest Official, Nez Perce-Clearwater National Forests Headquarters, by email to lasmith@fs.fed.us, or via facsimile to (208) 983-4099. A summary of the meeting will be posted at https://www.fido.gov/facadatabase/public.asp. within 21 days of the meeting.

Meeting Accommodations: If you require sign language interpreting, assistive listening devices or other reasonable accommodation please request this in advance of the meeting by contacting the person listed in the section titled, For Further Information Contact. All reasonable accommodation requests are managed on a case-by-case basis.

Dated: April 15, 2013.
Rick Brazell,
Forest Supervisor, Nez Perce-Clearwater National Forest.

[FR Doc. 2013-09358 Filed 4-19-13; 8:45 am]

BILLING CODE 3410-11-P